DEPARTMENT OF COMMERCE

National Oceanic and Atmospheric Administration

[I.D. 040604A]

Marine Mammals; File No. 881-1724

AGENCY: National Marine Fisheries Service (NMFS), National Oceanic and Atmospheric Administration (NOAA), Commerce.

ACTION: Issuance of permit.

SUMMARY: Notice is hereby given that the Alaska SeaLife Center, 301 Railway Avenue, Seward, Alaska 99664, has been issued a permit to import and export marine mammal parts for purposes of scientific research.

ADDRESSES: The permit and related documents are available for review upon written request or by appointment in the following office(s):

Permits, Conservation and Education Division, Office of Protected Resources, NMFS, 1315 East-West Highway, Room 13705, Silver Spring, MD 20910; phone (301)713-2289; fax (301)713-0376; and

Alaska Region, NMFS, P.O. Box 21668, Juneau, AK 99802-1668; phone (907)586-7221; fax (907)586-7249.

FOR FURTHER INFORMATION CONTACT: Amy Sloan or Ruth Johnson, (301)713-2289.

SUPPLEMENTARY INFORMATION: On December 17, 2003, notice was published in the Federal Register (68 FR 70234) that a request for a scientific research permit to take parts from the following species: Antarctic fur seal (Arctocephalus gazella), Australian fur seal (Arctocephalus pusillus), Australian sea lion (Neophoca cinerea), California sea lion (Zalophus californianus), harbor seal (Phoca vitulina), northern fur seal (Callorhinus ursinus), ribbon seal (Phoca fasciata), ringed seal (Phoca hispida), Southern fur seal (Arctocephalus australis), Southern sea lion (Otaria flavescens), Steller sea lion (Eumetopias jubatus), beluga whale (Delphinapterus leucas), bowhead whale (Balaena mysticetus), gray whale (Eschrichtius robustus), humpback whale (Megaptera novaeangliae), killer whale (Orcinus orca), and sperm whale (Physeter catodon) had been submitted by the above-named organization. The requested permit has been issued under the authority of the Marine Mammal Protection Act of 1972, as amended (16 U.S.C. 1361 et seq.), the Regulations Governing the Taking and Importing of Marine Mammals (50 CFR part 216), the Endangered Species Act of 1973, as amended (ESA; 16 U.S.C. 1531 et seq.), the regulations governing the taking, importing, and exporting of endangered and threatened species (50 CFR parts 222-226), and the Fur Seal Act of 1966, as amended (16 U.S.C. 1151 et seq.).

The applicant has been authorized to import and export specimen samples (hard and soft parts) from the above-named species for a number of projects to study marine mammal population ecology, diet and nutrition, reproductive physiology, toxicology, and health. The applicant has been issued a five-year permit.

Issuance of this permit, as required by the ESA, was based on a finding that such permit (1) was applied for in good faith, (2) will not operate to the disadvantage of the endangered species which is the subject of this permit, and (3) is consistent with the purposes and policies set forth in section 2 of the ESA.

Dated: April 9,2004.
Stephen L. Leathery,
Chief, Permits, Conservation and Education Division, Office of Protected Resources, National Marine Fisheries Service.

[FR Doc. 04-8594 Filed 4-14-04; 8:45 am]

BILLING CODE 3510-22-S